SMALL BUSINESS ADMINISTRATION

Public Federal Regulatory Enforcement Fairness Hearing

The Small Business Administration Region IX Regulatory Fairness Board and the SBA Office of the National Ombudsman will hold a Public Hearing on Wednesday, September 29, 2004 at 1 p.m. at Maricopa Community College, Governing Board Room, 2411 West 14th Street, Tempe, AZ 85281, to receive comments and testimony from small business owners, small government entities, and small non-profit organizations concerning regulatory enforcement and compliance actions taken by federal agencies. This will be a bilingual hearing in English and Spanish.

Anyone wishing to attend or to make a presentation must contact Bruce Hodgman in writing or by fax, in order to be put on the agenda. Bruce Hodgman, Deputy District Director, SBA Arizona District Office, 2828 North Central Avenue, Phoenix, AZ 85004, phone (602) 745-7220, fax (603) 745-7210, e-mail: bruce.hodgman@sba.gov.

For more information, see our Web site at http://www.sba.gov/ombudsman.

Dated: September 1, 2004.
Peter Sorum,
Senior Advisor, Office of the National Ombudsman.

[FR Doc. 04-20541 Filed 9-9-04; 8:45 am]

BILLING CODE 8025-01-P